DEPARTMENT OF TRANSPORTATION

Federal Aviation Administration

Notice of Intent To Rule on Request To Release Airport Property at Monroe Regional Airport, Monroe, LA

AGENCY: Federal Aviation Administration (FAA), DOT.

ACTION: Notice of request to release airport property.

SUMMARY: The FAA proposes to rule and invites public comment on the release of land at Monroe Regional Airport under the provisions of Section 125 of the Wendell H. Ford Aviation Investment Reform Act for the 21st Century (AIR 21).

DATES: Comments must be received on or before December 8, 2003.

ADDRESSES: Comments on this application may be mailed or delivered to the FAA at the following address: Mr. Lacey D. Spriggs, Manager, Federal Aviation Administration, Southwest Region, Airports Division, LA/NM Airports Development Office, ASW-640, 2601 Meacham Boulevard, Fort Worth, Texas 76193-0640.

In addition, one copy of any comments submitted to the FAA must be mailed or delivered to The Honorable James Mayo, Mayor, City of Monroe, Louisiana at the following address: Mayor James Mayo, City of Monroe, P.O. Box 123, Monroe, Louisiana 71201-0123.

FOR FURTHER INFORMATION CONTACT: Mr. John M. Dougherty, Program Manager, Federal Aviation Administration, Southwest Region, Airports Division, LA/NM Airports Development Office, ASW-640c, 2601 Meacham Boulevard, Fort Worth, Texas 76193-0640.

The request to release property may be reviewed in person at this same location.

SUPPLEMENTARY INFORMATION: The FAA invites public comment on the request to release property at the Monroe Regional Airport under the provisions of the AIR 21. On October 9, 2003, the FAA determined that the request to release property at Monroe Regional Airport submitted by the City of Monroe, Louisiana, met the procedural requirements of the Federal Aviation Regulations, Part 155. The FAA may approve the request, in whole or in part, no later than January 9, 2004.

The following is a brief overview of the request:

The City of Monroe, Louisiana, requests the release of 5.091 acres of airport property. The release of property will allow for two industrial development projects to proceed. The sale is estimated to provide $115,900.00 to allow improvements to Monroe Regional Airport's Closed Circuit TV System and Computerized Access Control System in the terminal building.

Any person may inspect the request in person at the FAA office listed above under FOR FURTHER INFORMATION CONTACT.

In addition, any person may, upon request, inspect the application, notice and other documents germane to the application in person at the Monroe Regional Airport.

Issued in Fort Worth, Texas on October 15, 2003.
Naomi L. Saunders,
Manager, Airports Division.

[FR Doc. 03-27895 Filed 11-5-03; 8:45 am]

BILLING CODE 4910-13-M